COMMODITY FUTURES TRADING COMMISSION

Sunshine Act Meeting

Agency Holding the Meeting: Commodity Futures Trading Commission.

Time and Date: 2 p.m., Friday, March 7, 2003.

Place: 1155 21st St., NW., Washington, DC., 9th Floor Conference Room.

Status: Closed.

Matters to be Considered: Personnel Matters.

Contact Person for More Information: Jean A. Webb, 202-418-5100.

Jean A. Webb,
Secretary of the Commission.

[FR Doc. 03-3930 Filed 2-13-03; 11:18 am]

BILLING CODE 6351-01-M